DEPARTMENT OF ENERGY

Federal Energy Regulatory Commission

[Docket No. EG02-85-000, et al.]

DTE East China, LLC, et al.; Electric Rate and Corporate Regulation Filings

February 8, 2002.

Take notice that the following filings have been made with the Commission. Any comments should be submitted in accordance with Standard Paragraph E at the end of this notice.

1. DTE East China, LLC

[Docket No. EG02-85-000]

Take notice that on February 6, 2002, DTE East China, LLC (Applicant), a Delaware limited liability company, with its principal place of business at 414 S. Main Street, Suite 600, Ann Arbor, Michigan 48104, filed with the Federal Energy Regulatory Commission (Commission) an application for a determination of exempt wholesale generator status pursuant to part 365 of the Commission's regulations.

Applicant states that it will own or lease and operate an approximately 320 MW peaking facility in East China Township, Michigan. The facility is expected to commence commercial operations in the summer of 2002.

Copies of the Application have been served upon the Securities and Exchange Commission and the Michigan Public Service Commission.

Comment Date: March 8, 2002.

2. Arizona Public Service Company

[Docket No. ER99-3288-005]

Take notice that on January 30, 2002, Arizona Public Service Company (APS) tendered for filing with the Federal Energy Regulatory Commission (Commission) filed an Informational Report on the Fourth Quarter for 2001 Refund payments to Eligible Wholesale Customers under the Company's Fuel Adjustment Clause (FAC).

Comment Date: February 21, 2002.

3. Sierra Pacific Power Company

[Docket Nos. ER02-317-001 and ER02-318-001]

Take notice that on February 4, 2002, Sierra Pacific Power Company (Sierra) submitted service agreement designations for service agreement revisions filed in the above referenced dockets.

Copies of this filing were served upon the Public Utilities Commission of Nevada, the Public Utilities Commission of California and all interested parties.

Comment Date: February 25, 2002.

4. Duke Energy Arlington Valley, LLC

[Docket No. ER02-443-001]

Take notice that on February 4, 2002, Duke Energy Arlington Valley, LLC filed a notice of status change with the Federal Energy Regulatory Commission in connection with the pending change in upstream control of Engage Energy America LLC and Frederickson Power L.P. resulting from a transaction involving Duke Energy Corporation and Westcoast Energy Inc.

Copies of the filing were served upon all parties on the official service lists compiled by the Secretary of the Federal Energy Regulatory Commission in these proceedings.

Comment Date: February 25, 2002.

5. Excel Energy Services, Inc.

[Docket No. ER02-402-001]

Take notice that on February 4, 2002, Xcel Energy Service Inc. (EXS) on behalf of Northern States Power Company (NSP) hereby submits a compliance filing regarding the Restated Transmission Services Agreement between NSP and the State of South Dakota (Customer).

Comment Date: February 25, 2002.

6. UtiliGroup, Inc.

[Docket No. ER02-517-001]

Take notice that on February 4, 2002, UtiliGroup, Inc. (UtiliGroup) tendered for filing with the Federal Energy Regulatory Commission (Commission) additional information to its original Petition for Acceptance of Initial Rate Schedule, Waivers and Blanket Authority, identifying the owners of UtiliGroup.

Comment Date: February 25, 2002.

7. Crete Energy Venture, LLC

[Docket No. ER02-963-000]

Take notice that on February 5, 2002, Crete Energy Venture, LLC tendered for filing an application for blanket authorizations, certain waivers and authorization to sell energy, capacity and ancillary services at market-based rates pursuant to section 205 of the Federal Power Act.

Copies of this filing have been served on the Arkansas Public Service Commission, Mississippi Public Service Commission, Louisiana Public Service Commission, Texas Public Utility Commission, the Council of the City of New Orleans, the Michigan Public Service Commission and the Illinois Commerce Commission.

Comment Date: February 26, 2002.

8. American Transmission Company LLC

[Docket No. ER02-964-000]

Take notice that on February 5, 2002, American Transmission Company LLC (ATCLLC) tendered for filing a Generation-Transmission Interconnection Agreement between ATCLLC and Fox Energy Company LLC.

ATCLLC requests an effective date of January 15, 2002.

Comment Date: February 26, 2002.

9. Entergy Services, Inc.

[Docket No. ER02-965-000]

Take notice that on February 5, 2002, Entergy Services, Inc. (Entergy Services), on behalf of Entergy Arkansas, Inc., Entergy Gulf States, Inc., Entergy Louisiana, Inc., Entergy Mississippi, Inc., and Entergy New Orleans, Inc., tendered for filing six copies of a Notice of Termination for Short-Term and Non-Firm Point-To-Point Transmission Service Agreements between Entergy Services and Avista Energy, Inc.

Comment Date: February 26, 2002.

10. PG&E Dispersed Generating Company, LLC

[Docket No. ER02-966-000]

Take notice that on February 5, 2002, PG&E Dispersed Generating Company, LLC (PG&E Dispersed Gen) tendered for filing a service agreement for power sales (Service Agreement) with RAMCO, Inc. (RAMCO) pursuant to which PG&E Dispersed Gen will sell capacity, energy and ancillary services to RAMCO at market-based rates according to its FERC Electric Tariff No. 1.

Comment Date: February 26, 2002.

11. Virginia Electric and Power Company

[Docket No. ER02-967-000]

Take notice that on February 5, 2002, Virginia Electric and Power Company (Dominion Virginia Power or the Company) tendered for filing a Service Agreement for Network Integration Transmission Service and Network Operating Agreement by Virginia Electric and Power Company to Dominion Energy Direct Sales, Inc. designated as First Revised Service Agreement No. 302 under the Company's Retail Access Pilot Program, pursuant to Attachment L of the Company's Open Access Transmission Tariff, FERC Electric Tariff, Second Revised, Volume No. 5, to Eligible Purchasers effective June 7, 2000.

Dominion Virginia Power requests a waiver of the Commission's regulation to permit an effective date of October 1, 2001, as requested by the customer.

Copies of the filing were served upon Dominion Energy Direct Sales, Inc., the Virginia State Corporation Commission, and the North Carolina Utilities Commission.

Comment Date: February 26, 2002.

12. Northeast Utilities Service Company

[Docket No. ER02-968-000]

Take notice that on February 5, 2002, Northeast Utilities Service Company (NUSCO), tendered for filing, Service Agreement to provide Firm Point-To-Point Transmission Service to Whitefield Power and Light Company under the NU System Companies' Open Access Transmission Service Tariff No. 9.

NUSCO states that a copy of this filing has been mailed to Whitefield Power and Light Company. NUSCO requests that the Service Agreement become effective March 15, 2002.

Comment Date: February 26, 2002.

13. Northeast Utilities Service Company

[Docket No. ER02-969-000]

Take notice that on February 5, 2002, Northeast Utilities Service Company (NUSCO), tendered for filing, Service Agreement to provide Non-Firm Point-To-Point Transmission Service to Whitefield Power and Light Company under the NU System Companies' Open Access Transmission Service Tariff No. 9.

NUSCO states that a copy of this filing has been mailed to Whitefield Power and Light Company. NUSCO requests that the Service Agreement become effective March 15, 2002.

Comment Date: February 26, 2002.

14. UBS AG

[Docket No. ER02-973-000]

Take notice that on February 6, 2002, UBS AG (Applicant) filed with the Federal Energy Regulatory Commission (the Commission) an application for approval of its initial rate schedule (FERC Electric Tariff Original Volume No. 1) and for blanket approval for market-based rates pursuant to Part 35 of the Commission's regulations.

Applicant is a publicly-held corporation organized under the laws of Switzerland, with its principal places of business at Zurich and Basel and branches in financial centers around the world. Applicant intends to engage in the sale of electricity at wholesale in the United States on terms to be agreed upon with the purchasing party. Applicant has reached an agreement to use certain assets under license from Enron, Inc.

Comment Date: February 20, 2002.

15. Southern Illinois Power Cooperative

[Docket No. NJ02-1-000]

Take notice that on November 14, 2001, Southern Illinois Power Cooperative (SIPC) filed with the Federal Energy Regulatory Commission (Commission) a letter informing the Commission of changes it will make to its open access transmission tariff in order to participate as a transmission owning member of this Midwest Independent Transmission System Operator, Inc. (MISO). The changes include canceling all attachments and schedules other than Schedules 2, 3, 5, and 6 (ancillary services); the canceled attachments and schedules are no longer necessary because SIPC's customers will now become MISO's customers.

SIPC states that the changes will be effective December 15, 2001.

Comment Date: March 7, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-3740 Filed 2-14-02; 8:45 am]

BILLING CODE 6717-01-P